DEPARTMENT OF THE INTERIOR

National Park Service

36 CFR Chapter 1

Negotiated Rulemaking Advisory Committee for Dog Management at Golden Gate National Recreation Area

ACTION: Notice of third meeting.

Notice is hereby given, in accordance with the Federal Advisory Committee Act (Pub. L. 92-463, 86 Stat. 770, 5 U.S.C. App 1, section 10), of the third meeting of the Negotiated Rulemaking Advisory Committee for Dog Management at Golden Gate National Recreation Area.

DATES: The Committee will meet on Monday, May 15, 2006 at the Officers's Club at 1 Fort Mason in upper Fort Mason, in San Francisco. The meeting will begin at 3 p.m. This, and any subsequent meetings, will be held to assist the National Park Service in potentially developing a special regulation for dogwalking at Golden Gate National Recreation Area.

The proposed agenda for this meeting of the Committee may contain the following items; however, the Committee may modify its agenda during the course of its work. The Committee will provide for a public comment period during the meeting.

1. Agenda review

2. Approval of April 18 meeting summary

3. Updates since previous meeting

4. No Action Alternative for Dog Management Plan/Environmental Impact Statement (EIS) under National Environmental Policy Act (NEPA)

5. Data inventory

6. Information needs for Negotiated Rulemaking process

7. Decision-making criteria

8. Public comment

9. Adjourn

To request a sign language interpreter for a meeting, please call the park TDD line (415) 556-2766, at least a week in advance of the meeting.

FOR FURTHER INFORMATION CONTACT: Go to the NPS Planning, Environment and Public Comment (PEPC) Web site, http://www.parkplanning.nps.gov/goga and select Negotiated Rulemaking for Dog Management at GGNRA or call the Dog Management Information Line at 415-561-4728.

SUPPLEMENTARY INFORMATION: The meetings are open to the public. The Committee was established pursuant to the Negotiated Rulemaking Act of 1990 (5 U.S.C. 561-570). The purpose of the Committee is to consider developing a special regulation for dogwalking at Golden Gate National Recreation Area. Interested persons may provide brief oral/written comments to the Committee during the Public Comment period of the meeting or file written comments with the GGNRA Superintendent.

Dated: April 18, 2006.
Loran Fraser,
Chief, Office of Policy.

[FR Doc. E6-6486 Filed 4-28-06; 8:45 am]

BILLING CODE 4312-FN-P